CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled External Reviewer Application for review and approval in accordance with the Paperwork Reduction Act of 1995. Copies of this ICR, with applicable supporting documentation, may be obtained by calling the Corporation for National and Community Service, Vielka Garibaldi, at 202-606-6713 or email to PeerReviewers@cns.gov. Individuals who use a telecommunications device for the deaf (TTY-TDD) may call 1-800-833-3722 between 8:00 a.m. and 8:00 p.m. Eastern Time, Monday through Friday.

DATES: Comments may be submitted, identified by the title of the information collection activity, within September 22, 2016.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on April 14, 2016, at Volume 81, No. 72 FR 22060. This comment period ended June 13, 2016. No public comments were received from this Notice.

Description: CNCS seeks to renew the current information collection. The application and instructions have been updated in order to capture the required information in a more streamlined fashion within the Grants and Member Management system. The information collection will otherwise be used in the same manner as the existing application. CNCS also seeks to continue using the current application until the new system becomes available.

Type of Review: Renewal.

Agency: Corporation for National and Community Service.

Title: CNCS External Reviewer Application.

OMB Number: 3045-0090.

Agency Number: None.

Affected Public: Individuals interested in serving as External Reviewers and External Panel Coordinators for CNCS's grant reviews.

Total Respondents: 2000.

Frequency: One time to complete.

Average Time per Response: Averages 30 minutes.

Estimated Total Burden Hours: 1,000 hours.

Total Burden Cost (capital/startup): None.

Total Burden Cost (operating/maintenance): None.

Dated: August 15, 2016.
Vielka Garibaldi,
Director, Office of Grants Policy and Operations.

[FR Doc. 2016-20099 Filed 8-22-16; 8:45 am]

BILLING CODE 6050-28-P